DEPARTMENT OF COMMERCE

Patent and Trademark Office

[Docket No. PTO-P-2023-0017]

Patent Public Advisory Committee Public Hearing on the Proposed Patent Fee Schedule

AGENCY: United States Patent and Trademark Office, Department of Commerce.

ACTION: Notice of public hearing.

SUMMARY: The United States Patent and Trademark Office (USPTO) is announcing the date, time, and place of a public hearing that will be held by the Patent Public Advisory Committee (PPAC) on the USPTO's proposed setting or adjusting of patent fees pursuant to the USPTO's fee setting authority under section 10 of the Leahy-Smith America Invents Act (AIA), as amended. The USPTO will make its proposed patent fees available—as set forth in the SUPPLEMENTARY INFORMATION section of this notice—before the PPAC hearing. The public is invited to testify at the hearing and submit written comments regarding proposed patent fees.

DATES: A hybrid public hearing will be held on Thursday, May 18, 2023, from 1-3 p.m. ET. The USPTO will publish a proposed patent fee schedule and related supplementary information for public viewing no later than May 4, 2023, on the fee setting and adjusting section of the USPTO website, www.uspto.gov/FeeSettingAndAdjusting. Anyone wishing to present oral testimony at the hearing must submit a written request for an opportunity to do so no later than May 11, 2023. Written comments on proposed patent fees will be accepted until May 25, 2023.

ADDRESSES: The hybrid public hearing will be held in person in the Clara Barton Auditorium at the USPTO, 600 Dulany Street, Alexandria, Virginia 22314. The hearing will also be available via live feed for those wishing to attend remotely. Information on remote attendance will be posted on the PPAC section of the USPTO website, www.uspto.gov/ppac, before the hearing.

Requests To Present Oral Testimony

The public is invited to testify at the hearing and submit written comments regarding proposed patent fees. Anyone wishing to present oral testimony at the hearing must submit a request in writing no later than May 11, 2023. Requests to testify should indicate:

A. The name of the person wishing to testify;

B. The person's contact information (telephone number and email address);

C. The organization(s) the person represents, if any;

D. An indication of the amount of time needed for the testimony; and

E. An indication of whether testimony will be provided in person or remotely.

Speaking slots are limited, and the USPTO may be unable to honor all requests. Requests to testify must be submitted by email to Jennifer Lo at Jennifer.Lo@uspto.gov. If more requests to provide oral testimony are received than time allows, requestors will be invited to submit written comments. Time slots will be at least five minutes each. Speakers providing testimony at the hearing should submit a written copy of their testimony for inclusion in the record of the proceedings no later than May 25, 2023.

An agenda for witness testimony will be sent to testifying requesters and posted on the fee setting and adjusting section of the USPTO website, www.uspto.gov/FeeSettingAndAdjusting. If time allows, the PPAC may permit unscheduled testimony.

The hearing will be physically accessible to people with disabilities. Individuals requiring accommodation, such as sign language interpretation or other ancillary aids, should communicate their needs to the individuals listed under the FOR FURTHER INFORMATION CONTACT section of this notice at least seven (7) business days prior to the hearing.

Written Comments

Written comments on proposed patent fees must be submitted through the Federal eRulemaking Portal at www.regulations.gov. To submit comments via the portal, commenters should enter docket number PTO-P-2023-0017 on the homepage and select the Search button. The site will provide search results listing all documents associated with this docket. Commenters can find a reference to this notice and select the Comment icon, complete the required fields, and enter or attach their comments. Attachments to electronic comments will be accepted in Adobe portable document format (PDF) or Microsoft Word format. Information that you do not want to make public, such as an address or phone number, should not be included in the comments to protect your privacy.

Visit the Federal eRulemaking Portal for additional instructions on providing comments via the portal. If electronic submission of comments is not possible, please contact the USPTO using the contact information below at the FOR FURTHER INFORMATION CONTACT section of this notice for special instructions.

Recordings

A recording of the public hearing will be posted on the fee setting and adjusting section of the USPTO website, www.uspto.gov/FeeSettingAndAdjusting, shortly after the hearing.

Transcripts

A transcript of the hearing will be available on the fee setting and adjusting section of the USPTO website, www.uspto.gov/FeeSettingAndAdjusting, shortly after the hearing.

FOR FURTHER INFORMATION CONTACT: Brendan Hourigan, Director, Office of Planning and Budget, at 571-272-8966, or at Brendan.Hourigan@uspto.gov; or Dianne Buie, Director, Forecasting and Analysis Division, at 571-272-6301, or at Dianne.Buie@uspto.gov.

SUPPLEMENTARY INFORMATION: The USPTO is authorized under section 10 of the AIA to set or adjust by rule all patent and trademark fees established, authorized, or charged under title 35 of the United States Code and the Trademark Act of 1946, respectively. This authority was extended through September 15, 2026, by the Study of Underrepresented Classes Chasing Engineering and Science Success Act of 2018 (Pub. L. 115-273). Patent and trademark fees set or adjusted by rule under section 10 of the AIA may only recover the aggregate estimated costs to the USPTO for processing, activities, services, and materials relating to patents and trademarks, respectively, including administrative costs of the office with respect to each. Congress set forth the process for the USPTO to follow in setting or adjusting patent and trademark fees by rule under section 10 of the AIA, including additional procedural steps in the rulemaking proceeding for issuance of regulations under this section. Congress requires the relevant advisory committee to hold a public hearing regarding proposed fees after receiving the proposal from the USPTO. Congress, likewise, requires the relevant advisory committee to prepare a written report on proposed fees and the USPTO to consider the relevant advisory committee's report before finally setting or adjusting fees.

The USPTO is planning to exercise its fee setting authority to set or adjust patent fees. The USPTO will publish a proposed patent fee schedule and related supplementary information for public viewing no later than May 4, 2023, on the fee setting and adjusting section of the USPTO website, www.uspto.gov/FeeSettingAndAdjusting. The PPAC will hold a public hearing regarding the proposed patent fee schedule on the date indicated in this notice. The USPTO will assist the PPAC in holding the hearing by providing resources to organize the hearing and notifying the public. Following the PPAC public hearing and considering all comments, advice, and recommendations, the USPTO, if it continues with the fee setting process, will publish a Notice of Proposed Rulemaking in the Federal Register, setting forth its proposed patent fees.

Katherine K. Vidal,
Under Secretary of Commerce for Intellectual Property and Director of the United States Patent and Trademark Office.

[FR Doc. 2023-08346 Filed 4-19-23; 8:45 am]

BILLING CODE 3510-16-P